FEDERAL COMMUNICATIONS COMMISSION

47 CFR Parts 73 and 74

[MB Docket No. 21-263; FCC 22-13; FR ID 76380]

Broadcast Radio Technical Rules

AGENCY: Federal Communications Commission.

ACTION: Final rule.

SUMMARY: The Federal Communication Commission (Commission or FCC) amends the rules applicable to broadcast radio stations to better reflect current requirements and eliminate redundant, outdated, or conflicting technical provisions.

DATES: Effective April 18, 2022.

FOR FURTHER INFORMATION CONTACT: James Bradshaw, Deputy Division Chief, Media Bureau, Audio Division (202) 418-2739, James.Bradshaw@fcc.gov; Christine Goepp, Attorney Advisor, Media Bureau, Audio Division, (202) 418-7834, Christine.Goepp@fcc.gov.

SUPPLEMENTARY INFORMATION: This is a summary of the Commission's Report and Order (R&O), MB Docket No. 21-263, FCC 22-13, adopted on February 16, 2022, and released on February 17, 2022. The full text of the R&O will be available electronically via the FCC's Electronic Document Management System (EDOCS) website at www.fcc.gov/edocs or via the FCC's Electronic Comment Filing System (ECFS) website at www.fcc.gov/ecfs. The Commission published the notice of proposed rulemaking (NPRM) at 86 FR 43145 on August 6, 2021.

Synopsis

1. The Federal Communication Commission amends the following rules applicable to broadcast radio stations to better reflect current requirements and eliminate redundant, outdated, or conflicting technical provisions.

2. Maximum rated transmitter power for AM stations. The Commission amends 47 CFR 73.1665(b) to remove the maximum rated transmitter power limit for AM stations and deletes the corresponding “Table 1 to paragraph (b).” This equipment limitation on potential transmitter power is outdated and unnecessary given the Commission's current reliance on actual operating antenna input power as the most accurate and effective means of ensuring that AM stations adhere to their authorized power limits. The Commission anticipates that elimination of this technical restriction on AM transmitters will allow AM stations of any class to use transmitters of any rated power, thus benefiting the AM service by broadening the market of transmitters available to stations, enhancing the secondary market for AM transmitters, and reducing the number of transmitters that need to be disposed of. Accordingly, it amends 47 CFR 73.1665(b) by removing the maximum rated transmitter power for AM stations, deletes the “Table 1 to paragraph (b),” and replaces “power rating limit” in the first sentence with “manufacturer-rated power limit” to indicate that this is a technical specification established by the transmitter manufacturer.

3. Noncommercial Educational (NCE) community of license coverage. The Commission eliminates the inconsistency between 47 CFR 73.316(c)(2)(ix)(B) and 73.1690(c)(8)(i) and the NCE FM community coverage standard set out in 47 CFR 73.515. Specifically, it amends §§ 73.316(c)(2)(ix)(B) and 73.1690(c)(8)(i) to conform to the updated standard that NCE applicants must show that their predicted 60 dBu contour will cover at least 50% of the relevant community of license or reach 50% of the population within the community.

4. FM transmitter interference to nearby antennas. The Commission declines to eliminate the proximate interference rule, 47 CFR 73.316(d), on the basis of industry feedback. However, it correct a typographical error in this rule by replacing the word “approximate” with “proximate.”

5. NCE FM Class D second-adjacent channel interference ratio. The Commission amends 47 CFR 73.509(b), which sets out signal strength contour overlap requirements for NCE FM Class D stations, to harmonize with the more permissive standard applied to all other NCE-FM stations. The Commission states that the less restrictive requirements have proven effective for other station classes and that there is no reason to continue treating Class D stations differently in this context. Although this distinction was originally designed to accommodate the establishment of the low power FM (LPFM) service, because the LPFM service is now mature, it is appropriate to extend the general contour overlap limits to Class D NCE stations. The Commission anticipates that the less preclusive requirement will create opportunities for NCE stations to increase power and coverage, as well as provide them with greater site selection flexibility. Accordingly, it amends 47 CFR 73.509(b) as set out in the final rules and makes non-substantive and formatting edits to the table contained in 47 CFR 73.509(a).

6. Protection for grandfathered common carriers in Alaska in the 76-100 MHz band. The Commission deletes 47 CFR 73.501(b), 74.1202(b)(3), the second sentence of 74.702(a)(1), and the second sentence of 74.786(b), all containing similar language requiring broadcast services to protect grandfathered common carrier services in Alaska operating in the 76-100 MHz frequency band. The Commission explains that this requirement is unnecessary and obsolete because the Commission's licensing databases indicate that there are no longer any common carrier services remaining in this frequency band in Alaska.

7. AM fill-in area definition. The Commission amends the definition of “AM fill-in area” set out in 47 CFR 74.1201(j) to conform to the requirement in 47 CFR 74.1201(g) that the “coverage contour of an FM translator rebroadcasting an AM radio broadcast station as its primary station must be contained within the greater of either the 2 mV/m daytime contour of the AM station or a 25-mile (40 km) radius centered at the AM transmitter site.” This change harmonizes the various rules governing fill-in translator transmitter siting and does not affect the signal coverage requirement set out in 47 CFR 74.1201(g).

8. International coordinations. The Commission updates 47 CFR 73.207(b) and 74.1235(d) to comport with the relevant international treaties. Specifically, it updates 47 CFR 73.207(b)(2) and the associated table to reflect the spacing requirements set out in the 1997 amendment to the 1991 U.S.-Canada FM Broadcasting Agreement and to reference the contour overlap provisions of section 5.2 of the Agreement. The Commission concludes that there is no need to grandfather stations that do not meet the new requirements because, at the time that the 1997 amendment took effect, the Commission coordinated with Canada Table B allotment modifications in accordance with the increase of Class A allotments to 6kW and has subsequently applied the distance separations set out in the amended 1991 U.S.-Canada FM Broadcasting Agreement when processing applications for more than two decades. The Commission clarifies that no facility modifications will be ordered because of the administrative updates to the distance separation requirements and that any Class A FM station may continue to operate under its licensed parameters. However, any application to modify the technical parameters in the station's license must include a showing that the proposed facilities satisfy the treaty requirements with respect to the Canadian border as set out in amended 47 CFR 73.207(b)(2).

9. The Commission also updates 47 CFR 73.207(b)(3) and the associated table to reflect the spacing requirements set out in the 1992 U.S.-Mexico FM Broadcasting Agreement. It clarifies that, for the purposes of the table associated with 47 CFR 73.207(b)(3), U.S. Class C0 assignments or allotments are considered Class C. In addition, the Commission states that the distances in both 47 CFR 73.207(b)(2) and (3) are to be calculated using the distance calculation methodology set out in the two respective Agreements. Finally, it makes non-substantive and formatting edits to all of the minimum distance separation tables contained in 47 CFR 73.207(b).

10. The Commission also updates 47 CFR 74.1235(d) to eliminate inconsistent provisions and reflect current treaty requirements applicable to FM translators. Specifically, it deletes all of the current introductory language of paragraph (d) prior to paragraphs (d)(1), (2), and (3). The first sentence of that introductory paragraph is inconsistent with the current treaty power limits established in the 1991 U.S.-Canada FM Broadcasting Agreement, as amended, which are already codified in paragraph (d)(3). The remainder of the introductory paragraph is inconsistent with the terms of the 1992 U.S.-Mexico FM Broadcasting Agreement, which specifies that FM translator stations are subject to a contour overlap based spacing methodology and are thus not subject to the distance separations of 47 CFR 73.207(b)(3). Finally, the reference in that paragraph to a 10-watt transmitter power output limitation is a superseded provision originally set out in the U.S.-Mexican FM Broadcast Agreement of 1972 and is no longer required under the current treaty. For these reasons, the Commission deletes all of the introductory language of § 74.1235(d) as obsolete.

Paperwork Reduction Act Analysis

11. This document does not contain proposed new or modified information collection requirements subject to the Paperwork Reduction Act of 1995 (PRA), Public Law 104-13. In addition, therefore, it does not contain any new or modified information collection for small business concerns with fewer than 25 employees, pursuant to the Small Business Paperwork Relief Act of 2002, Public Law 107-198, see 44 U.S.C. 3506(c)(4).

Final Regulatory Flexibility Analysis

12. As required by the Regulatory Flexibility Act of 1980, as amended (RFA), an Initial Regulatory Flexibility Analysis (IRFA) was incorporated in the notice of proposed rulemaking (NPRM) to this proceeding. The Commission sought written public comment on the proposals in the NPRM, including comment on the IRFA. The Commission received no comments on the IRFA. This Final Regulatory Flexibility Analysis (FRFA) conforms to the RFA.

A. Need for, and Objectives of, the Report and Order

13. This document adopts several rule changes to better reflect current requirements and eliminate redundant, outdated, or conflicting provisions. Specifically, the Commission:

• Eliminates the maximum rated transmitter power limit rule for AM stations. The Commission finds that an equipment limitation on potential transmitter power that is established by the transmitter manufacturer is outdated and unnecessary given the Commission's current reliance on actual operating antenna input power as the most accurate and effective means of ensuring that AM stations adhere to their authorized power limits.

• Updates several rule provisions containing an obsolete noncommercial educational (NCE) FM community of license coverage standard to harmonize with the later-adopted, more specific, NCE community of license coverage requirement.

• Updates the signal strength contour overlap requirements for NCE FM Class D stations to harmonize with the contour overlap requirements for all other classes of NCE FM stations. The Commission concludes that there is no reason to continue treating Class D stations differently in this context and that a less preclusive standard will create opportunities for NCE stations to increase power and coverage, as well as provide them with greater site selection flexibility.

• Eliminates the requirement for radio broadcast services to protect grandfathered common carrier services in Alaska operating in the 76-100 MHz frequency band. This requirement is no longer necessary as there are no more common carriers in this band in Alaska.

• Harmonizes the definition of an “AM fill-in area” set out in multiple rule sections. This correction applies the most up-to-date definition of “AM fill-in area” consistently across the relevant rules.

• Amends regulations applicable to broadcast stations within 320 kilometers of the Mexican and Canadian borders to implement the most current treaty provisions.

Amending these rules to accurately reflect current requirements will reduce potential confusion and eliminate unnecessary burdens on broadcasters.

B. Summary of Significant Issues Raised by Public Comments in Response to the IRFA

14. There were no comments to the IRFA filed.

C. Response to Comments by the Chief Counsel for Advocacy of the Small Business Administration

15. Pursuant to the Small Business Jobs Act of 2010, which amended the RFA, the Commission is required to respond to any comments filed by the Chief Counsel for Advocacy of the Small Business Administration (SBA), and to provide a detailed statement of any change made to the proposed rules as a result of those comments. The Chief Counsel did not file any comments in response to the proposed rules in this proceeding.

D. Description and Estimate of the Number of Small Entities to Which the Rules Apply

16. The RFA directs the Commission to provide a description of and, where feasible, an estimate of the number of small entities that will be affected by the rules adopted herein. The RFA generally defines the term “small entity” as having the same meaning as the terms “small business,” “small organization,” and “small government jurisdiction.” In addition, the term “small business” has the same meaning as the term “small business concern” under the Small Business Act. A small business concern is one which: (1) Is independently owned and operated; (2) is not dominant in its field of operation; and (3) satisfies any additional criteria established by the Small Business Administration (SBA).

17. Radio Stations. Radio stations are an Economic Census category that “comprises establishments primarily engaged in broadcasting aural programs by radio to the public. Programming may originate in their own studio, from an affiliated network, or from external sources.” The SBA has established a small business size standard for this category as firms having $41.5 million or less in annual receipts. Economic Census data for 2012 shows that 2,849 radio station firms operated during that year. Of that number, 2,806 operated with annual receipts of less than $25 million per year, and 43 firms had annual receipts of $25 million or more. Because the Census has no additional classifications that could serve as a basis for determining the number of stations whose receipts exceeded $41.5 million in that year, we conclude that the majority of radio broadcast stations were small entities under the applicable SBA size standard.

18. Apart from the U.S. Census, the Commission has estimated the number of licensed commercial AM stations to be 4,509 and the number of commercial FM stations to be 6,676 for a total of 11,185, along with 8,866 FM translator and booster stations. According to BIA/Kelsey Publications, Inc.'s Media Access Pro Database, as of March 2020, 4,389 a.m. stations and 6,767 FM stations had revenues of $41.5 million or less. In addition, the Commission has estimated the number of noncommercial educational FM radio stations to be 4,204. NCE stations are non-profit, and therefore considered to be small entities. Accordingly, we estimate that the majority of radio broadcast stations are small entities. We note, however, that, in assessing whether a business concern qualifies as small under the above definition, business affiliations must be included. Our estimate, therefore, likely overstates the number of small entities that might be affected by our action, because the revenue figure on which it is based does not include or aggregate revenues from affiliated companies.

19. Moreover, as noted above, an element of the definition of “small business” is that the entity not be dominant in its field of operation. The Commission is unable at this time to define or quantify the criteria that would establish whether a specific radio station is dominant in its field of operation. Accordingly, the estimate of small businesses to which rules may apply does not exclude any radio station from the definition of a small business on this basis and therefore may be over-inclusive to that extent. Also, as noted, an additional element of the definition of “small business” is that the entity must be independently owned and operated. The Commission notes that it is difficult at times to assess these criteria in the context of media entities and the estimates of small businesses to which they apply may be over-inclusive to this extent.

E. Description of Projected Reporting, Record Keeping and Other Compliance Requirements

20. The rule changes adopted in the Report and Order do not include any notification or recordkeeping requirements.

F. Steps Taken To Minimize Significant Impact on Small Entities, and Significant Alternatives Considered

21. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

22. The rules adopted or amended in the Report and Order do not impose any new substantive requirements on broadcast radio stations. Rather, they clarify existing technical requirements, create consistency across different rules, and ensure that current treaty terms are accurately reflected in the rules. These measures will help small entities by reducing their need to rely on third parties, such as legal counsel, to understand the rules and comply with regulatory requirements. Significant alternatives would include leaving the rules as they are; however, in the Commission's judgment the increased transparency and certainty under the amended rules would outweigh any benefit of familiarity with the existing rules. The Commission did take this alternative approach when it decided to retain the proximate interference rule set out in § 73.316(d), responding to industry feedback that that rule serves a useful purpose.

G. Report to Congress

23. The Commission will send a copy of the Report and Order, including the FRFA, in a report to Congress and the Government Accountability Office pursuant to the Small Business Regulatory Enforcement Fairness Act of 1996. In addition, the Commission will send a copy of the Report and Order, including the FRFA, to the Chief Counsel for Advocacy of the Small Business Administration. A copy of the Report and Order and FRFA (or summaries thereof) will also be published in the Federal Register.

Ordering Clauses

24. Accordingly, it is ordered that, pursuant to the authority contained in Sections 1, 4(i), 4(j), 301, 303, 307, 308, 309, 316, and 319 of the Communications Act of 1934, as amended, 47 U.S.C. 151, 154(i), 154(j), 301, 303, 307, 308, 309, 316, and 319, the Report and Order is adopted and will become effective 30 days after publication in the Federal Register.

25. It is further ordered that parts 73 and 74 of the Commission's Rules ARE amended as set forth in the final rules and such rule amendments will become effective 30 days after publication in the Federal Register.

26. It is further ordered that the Commission's Consumer and Governmental Affairs Bureau, Reference Information Center, shall send a copy of the Report and Order, including the Final Regulatory Flexibility Certification, to the Chief Counsel for Advocacy of the Small Business Administration.

27. It is further ordered that the Commission shall send a copy of the Report and Order in a report to be sent to Congress and the Government Accountability Office pursuant to the Congressional Review Act, see 5 U.S.C. 801(a)(1)(A).

28. It is further ordered that, should no petitions for reconsideration or petitions for judicial review be timely filed, MB Docket No. 21-263 shall be terminated and its docket closed.

List of Subjects

47 CFR Part 73

Mexico, Radio.

47 CFR Part 74

Mexico, Radio.

Federal Communications Commission.
Marlene Dortch,
Secretary.

Final Rules

For the reasons discussed in the preamble, the Federal Communications Commission amends 47 CFR chapter I, parts 73 and 74, as follows:

PART 73—RADIO BROADCAST SERVICES

1. The authority citation for part 73 continues to read as follows:

Authority: 47 U.S.C. 154, 155, 301, 303, 307, 309, 310, 334, 336, 339.

2. Amend § 73.207 by:

a. Revising the first sentence of paragraph (b) introductory text;

b. In paragraph (b)(1), revising the introductory text and the heading for the table;

c. Revising paragraphs (b)(2), (b)(3) introductory text, and (b)(3)(iv) and (v);

d. Adding paragraph (b)(3)(vi); and

e. Redesignating Table C following paragraph (b)(3) as table 3 to paragraph (b) and revising the heading of the newly redesignated table.

The revisions and addition read as follows:

§ 73.207 Minimum distance separation between stations.

* * * * *

(b) The distances listed in Tables 1, 2, and 3 of this paragraph (b) apply to allotments and assignments on the same channel and each of five pairs of adjacent channels. * * *

(1) Domestic distance separation. Domestic allotments and assignments must be separated from each other by not less than the distances in Table 1 to this paragraph (b):

Table 1 to Paragraph (b)—Minimum Distance Separation Requirements in Kilometers
[Miles]
* * * * * * *

(2) Canadian border distance separation. Under the 1991 United States-Canada FM Broadcasting Agreement, as amended, any domestic U.S. allotment or assignment within 320 kilometers (199 miles) of the common border must either satisfy the contour overlap provisions set out in the Agreement or be separated from Canadian allotments and assignments by not less than the distance given in Table 2 to this paragraph (b), using the distance calculation methodology set out in the Agreement. When applying Table 2, U.S. Class C0 allotments and assignments are considered to be Class C; U.S. Class C2 allotments and assignments are considered to be Class B; and U.S. Class C3 allotments and assignments are considered to be Class B1.

Table 2 to Paragraph (b)—Minimum Distance Separation Requirements in Kilometers
[Canada]
Relation | Co-channel | 200 kHz | 400 kHz | 600 kHz | 10.6/10.8 MHz (I.F.)
A1 to A1 | 78 | 45 | 24 | 20 | 4
A1 to A | 131 | 78 | 44 | 40 | 7
A1 to B1 | 164 | 98 | 57 | 53 | 9
A1 to B | 190 | 117 | 71 | 67 | 12
A1 to C1 | 223 | 148 | 92 | 88 | 19
A1 to C | 227 | 162 | 103 | 99 | 26
A to A | 151 | 98 | 51 | 42 | 10
A to B1 | 184 | 119 | 64 | 55 | 12
A to B | 210 | 137 | 78 | 69 | 15
A to C1 | 243 | 168 | 99 | 90 | 22
A to C | 247 | 182 | 110 | 101 | 29
B1 to B1 | 197 | 131 | 70 | 57 | 24
B1 to B | 223 | 149 | 84 | 71 | 24
B1 to C1 | 256 | 181 | 108 | 92 | 40
B1 to C | 259 | 195 | 116 | 103 | 40
B to B | 237 | 164 | 94 | 74 | 24
B to C1 | 271 | 195 | 115 | 95 | 40
B to C | 274 | 209 | 125 | 106 | 40
C1 to C1 | 292 | 217 | 134 | 101 | 48
C1 to C | 302 | 230 | 144 | 111 | 48
C to C | 306 | 241 | 153 | 113 | 48

(3) Mexican border distance separation. Under the 1992 United States-Mexico FM Broadcasting Agreement, any domestic U.S. assignment or allotment within 320 kilometers (199 miles) of the common border must either satisfy the contour overlap provisions set out in section 7.3 of the Agreement or be separated from Mexican assignments or allotments by not less than the distances given in Table 3 to this paragraph (b), using the distance calculation methodology set out in the Agreement. The minimum required distance separation between I.F. allotments and assignments cannot be reduced. When applying Table 3—

* * * * *

(iv) U.S. Class C2 assignments or allotments are considered Class B;

(v) Class C1 assignments or allotments assume maximum facilities of 100 kW ERP at 300 meters HAAT. However, U.S. Class C1 stations may not, in any event, exceed the domestic U.S. limit of 100 kW ERP at 299 meters HAAT, or the equivalent; and

(vi) U.S. Class C0 assignments or allotments are considered Class C.

Table 3 to Paragraph (b)—Minimum Distance Separation Requirements in Kilometers
[Mexico]
* * * * * * *

3. Amend § 73.316 by:

a. In paragraph (c)(2)(ix)(B):

i. In the first sentence, removing “where” and adding “Where” in its place; and

ii. Revising the second sentence; and

b. Revising paragraph (d).

The revisions read as follows:

§ 73.316 FM antenna systems.

* * * * *

(c) * * *

(2) * * *

(ix) * * *

(B) * * * The application for license must also demonstrate that coverage of the community of license by the 70 dBu contour is maintained for stations authorized pursuant to § 73.215 on Channels 221 through 300, as required by § 73.315(a), while noncommercial educational stations operating on Channels 201 through 220 must show that the proposed transmitter location will provide a minimum field strength of 1 mV/m (60 dBu) over at least 50 percent of its community of license or reach 50 percent of the population within the community.

(d) Applications proposing the use of FM transmitting antennas in the immediate vicinity (i.e., 60 meters or less) of other FM or TV broadcast antennas must include a showing as to the expected effect, if any, of such proximate operation.

* * * * *

§ 73.501 [Amended]

4. Amend § 73.501 by removing and reserving paragraph (b) and removing the parenthetical authority citation at the end of the section.

5. Amend § 73.507 by:

a. Revising paragraph (c); and

b. Removing the parenthetical authority citation at the end of the section.

The revision reads as follows:

§ 73.507 Minimum distance separations between stations.

* * * * *

(c)(1) Stations separated in frequency by 10.6 or 10.8 MHz (53 or 54 channels) from allotments or assignments on non-reserved channels will not be authorized unless they conform to the separations given in Table 1 to paragraph (b) of § 73.207.

(2) Under the United States-Mexican FM Broadcasting Agreement, for stations and assignments differing in frequency by 10.6 to 10.8 MHz (53 or 54 channels), U.S. noncommercial educational FM allotments and assignments must meet the separations given in Table 3 to paragraph (b) of § 73.207 to Mexican allotments or assignments in the border area.

6. Amend § 73.509 by:

a. In paragraph (a):

i. Revising the introductory text; and

ii. Adding a heading for the table; and

b. Revising paragraph (b).

The revisions read as follows:

§ 73.509 Prohibited overlap.

(a) An application for a new or modified NCE-FM station other than a Class D (secondary) station will not be accepted if the proposed operation would involve overlap of signal strength contours with any other station licensed by the Commission and operating in the reserved band (Channels 200-220, inclusive) as set forth in Table 1 to this paragraph (a):

Table 1 to Paragraph (a)
* * * * * * *

(b) An application by a Class D (secondary) station, other than an application to change class, will not be accepted if the proposed operation would involve overlap of signal strength contours with any other station as set forth in Table 2 to this paragraph (b):

Table 2 to Paragraph (b)
Frequency separation | Contour of proposed station | Contour of any other station
Co-channel | 0.1 mV/m (40 dBu) | 1 mV/m (60 dBu)
200 kHz | 0.5 mV/m (54 dBu) | 1 mV/m (60 dBu)
400/600 kHz | 100 mV/m (100 dBu) | 1 mV/m (60 dBu)

* * * * *

7. Amend § 73.1665 by revising paragraph (b) to read as follows:

§ 73.1665 Main transmitters.

* * * * *

(b) There is no maximum manufacturer-rated power limit for AM, FM, TV or Class A TV station transmitters.

* * * * *

8. Amend § 73.1690 by revising the second sentence of paragraph (c)(8)(i) to read as follows:

§ 73.1690 Modification of transmission systems.

* * * * *

(c) * * *

(8) * * *

(i) * * * Noncommercial educational FM stations must continue to provide a 60 dBu contour over at least 50 percent of its community of license or reach 50 percent of the population within the community. * * *

* * * * *

PART 74—EXPERIMENTAL RADIO, AUXILIARY, SPECIAL BROADCAST AND OTHER PROGRAM DISTRIBUTIONAL SERVICES

9. The authority citation for part 74 continues to read as follows:

Authority: 47 U.S.C. 154, 302a, 303, 307, 309, 310, 336 and 554.

§ 74.702 [Amended]

10. Amend § 74.702 by removing the second sentence of paragraph (a)(1).

§ 74.786 [Amended]

11. Amend § 74.786 by removing the second sentence of paragraph (b).

12. Amend § 74.1201 by revising paragraph (j) to read as follows:

§ 74.1201 Definitions.

* * * * *

(j) AM Fill-in area. The area within the greater of the 2 mV/m daytime contour of the AM radio broadcast station being rebroadcast or a 25-mile (40 km) radius centered at the AM transmitter site.

* * * * *

§ 74.1202 [Amended]

13. Amend § 74.1202 by removing paragraph (b)(3).

14. Amend § 74.1235 by:

a. Removing paragraph (d) introductory text; and

b. Revising paragraph (d)(1) and the first sentence of paragraph (d)(2).

The revisions read as follows:

§ 74.1235 Power limitations and antenna systems.

* * * * *

(d)(1) Translator or booster stations located within 125 kilometers of the Mexican border may not exceed an ERP of 50 watts (0.050 kW) in the direction of the Mexican border. Such stations also may not produce an interfering contour in excess of 32 km from the transmitter site in the direction of the Mexican border, nor may the 60 dBu service contour exceed 8.7 km from the transmitter site in the direction of the Mexican border.

(2) Translator or booster stations located between 125 kilometers and 320 kilometers from the Mexican border may operate with an ERP in excess of 50 watts. * * *

* * * * *

[FR Doc. 2022-05684 Filed 3-17-22; 8:45 am]

BILLING CODE 6712-01-P